DEPARTMENT OF HEALTH AND HUMAN SERVICES

Centers for Medicare & Medicaid Services

[Document Identifier CMS-668B, CMS-1557 and CMS-10399]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection. Title of Information Collection: Post Clinical Laboratory Survey Questionnaire and Supporting Regulations in 42 CFR 493.1771, 493.1773, and 493.1777. Use: Form CMS-668B is used by a Clinical Laboratory Improvement Amendments (CLIA) laboratory to express its satisfaction with the survey process and to make recommendations for improvement. Surveyors furnish this form to all laboratories that receive either an onsite survey or the Alternate Quality Assessment Survey (i.e., paper survey of quality indicators). CMS Central Office performs an overview evaluation of the completed forms. Each calendar year, a summary of the information collected is sent to the State and CMS Regional Office. Form Number: CMS-668B (OCN 0938-0653). Frequency: Biennially; Affected Public: Business or other for-profits and not-for-profit institutions. State, Local, or Tribal Government, Federal Government. Number of Respondents: 21,000. Total Annual Responses: 10,500. Total Annual Hours: 2,625. (For policy questions regarding this collection contact Kathleen Todd at 410-786-3385. For all other issues call 410-786-1326.)

2. Type of Information Collection Request: Extension of a currently approved collection. Title of Information Collection: Survey Report Form for Clinical Laboratory Improvement Amendments (CLIA) and Supporting Regulations in 42 CFR 493.1-493.2001. Use: CMS 1557 is used to report surveyor findings during a CLIA survey. For each type of survey conducted (i.e., initial certification, recertification, validation, complaint, addition/deletion of specialty/subspecialty, transfusion fatality investigation, or revisit inspections) the Survey Report Form incorporates the requirements specified in the CLIA regulations. Form Number: CMS-1557 (OCN 0938-0544). Frequency: Biennially. Affected Public: Business or other for-profit, Not-for-profit institutions, State, Local or Tribal Governments and Federal Government. Number of Respondents: 21,000. Total Annual Responses: 10,500. Total Annual Hours: 5,248. (For policy questions regarding this collection contact Kathleen Todd at 410-786-3385. For all other issues call 410-786-1326.)

3. Type of Information Collection Request: New collection; Title of Information Collection: Analysis of Transportation Barriers to Utilization of Medicare Services by American Indian and Alaska Native Medicare Beneficiaries; Use: The purpose of the proposed study is to identify and analyze transportation barriers associated with the utilization of Medicare services by American Indian and Alaska Native (AI/AN) beneficiaries, to identify and analyze the health outcomes resulting from those barriers, and ultimately to identify potential solutions that could help mitigate the problem and produce meaningful improvements in health care use and health outcomes for this population. Specifically, the information that will be collected through the use of instruments and the study developed under the Analysis of Transportation Barriers to Utilization of Medicare Services by American Indian and Alaska Native Medicare Beneficiaries Project has not been collected or evaluated previously by any agency or individual, so data on the extent of transportation barriers for rural AI/AN beneficiaries to Medicare services by AI/AN Medicare beneficiaries are not available except from the proposed data collection activity.

The information gathered as part of the project—through the use of survey, interview, and focus group instruments—will be used by CMS to identify transportation barriers to Medicare services for AI/AN Medicare beneficiaries. It will provide the first ever complete evaluation of transportation barriers to health care for this population.

The information collection request has been revised since the publication of the 60-day Federal Register notice. Several questions were added in response to public comments. In addition to new questions, several clarifying edits were made as well. Form Number: CMS-10399 (OMB # 0938-NEW); Frequency: Occasionally; Affected Public: Individuals and Households, Private Sector; Number of Respondents: 3,418; Total Annual Responses: 3,418; Total Annual Hours: 2,544. (For policy questions regarding this collection contact Roger Goodacre at 410-786-3209. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on May 18, 2012.

OMB, Office of Information and Regulatory Affairs,

Attention: CMS Desk Officer,

Fax Number: (202) 395-6974,

Email: OIRA_submission@omb.eop.gov.

Dated: April 12, 2012.
Martique Jones,
Director, Regulations Development Group, Division-B, Office of Strategic Operations and Regulatory Affairs.

[FR Doc. 2012-9259 Filed 4-17-12; 8:45 am]

BILLING CODE 4120-01-P